CORPORATION FOR NATIONAL AND COMMUNITY SERVICE

Proposed New Information Collection; Comment Request

AGENCY: Corporation for National and Community Service.

ACTION: Notice.

SUMMARY: The Corporation for National and Community Service (hereinafter the “Corporation”), as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed application entitled: 2001 AmeriCorps Promise Fellows Application Instructions. Copies of the information collection requests can be obtained by contacting the office listed below in the ADDRESSES section of this notice.

DATES: Written comments must be submitted to the office listed in the ADDRESSES section by February 26, 2001.

ADDRESSES: Send comments to the Corporation for National and Community Service, Tracy Stone, Director, AmeriCorps Promise Fellows, 1201 New York Avenue, NW., Washington, DC 20525.

FOR FURTHER INFORMATION CONTACT: Tracy Stone at (202) 606-5000, ext. 173 or tstone@cns.gov.

SUPPLEMENTARY INFORMATION:

Comment Request

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

Background

• The AmeriCorps Promise Fellows program supports a leadership cadre of AmeriCorps members spearheading community efforts to provide young people with five basic promises:

• Ongoing relationships with caring adults—parents, mentors, tutors or coaches;

• Safe places with structured activities during nonschool hours;

• Healthy start and future;

• Marketable skills through effective education; and

• Opportunities to give back through community service.

The 2001 AmeriCorps Promise Fellows Application Instructions provide the requirements, instructions and forms that applicants need to complete an application to the Corporation for funding.

Current Action

The Corporation seeks public comment on the forms, the instructions for the forms, and the instructions for the narrative portion of these application instructions.

Type of Review: New collection.

Agency: Corporation for National and Community Service.

Title: 2001 AmeriCorps Promise Fellows Application Instructions.

OMB Number: None.

Agency Number: None.

Affected Public: Eligible applicants to the Corporation for funding.

Total Respondents: 90.

Frequency: Once per year.

Average Time Per Response: 25 hours.

Estimated Total Burden Hours: 2,250 hours.

Total Burden Cost (capital/startup): None.

Total Burden Cost (operating/maintenance): None.

Comments submitted in response to this notice will be summarized and/or included in the request for Office of Management and Budget approval of the information collection request; they will also become a matter of public record.

Technical Assistance Conference Calls

The Corporation will host two conference calls to provide technical assistance regarding the 2001 AmeriCorps Promise Fellows Application Instructions. The primary purpose of these calls is to offer technical assistance to interested applicants to the program. If you have comments regarding the 2001 AmeriCorps Promise Fellows Application Instructions, you may join these calls, however, you are encouraged to submit your comments in writing to the contact person listed in the ADDRESSES section of this notice. The calls will occur on Tuesday, January 30, 2001, and on Monday, February 26, 2001, at 2 p.m. Eastern time. To register for these calls, please contact Austin Holland at (202) 606-5000, extension 274 or aholland@cns.gov to receive the information you need to join the call.

Dated: December 21, 2000.
Tracy Stone,
Director, AmeriCorps Promise Fellows.

[FR Doc. 00-32953 Filed 12-26-00; 8:45 am]

BILLING CODE 6050-28-U